DEPARTMENT OF JUSTICE

Notice of Lodging of Proposed Consent Decree Under the Clean Air Act

On May 29, 2020, the Department of Justice lodged a proposed consent decree with the United States District Court for the District of Massachusetts, in the lawsuit entitled United States and Commonwealth of Massachusetts v. Sprague Resources LP and Sprague Operating Resources, LLC, Civil Action No. 1:20-cv-11026.

The United States filed this lawsuit under Section 113(a)(1) of the Clean Air Act, 42 U.S.C. 7413(a)(1), and the Massachusetts, Maine, New Hampshire, and Rhode Island state implementation plans. The Commonwealth of Massachusetts is a co-plaintiff and brings claims arising under the Massachusetts Clean Air Act and Massachusetts air pollution control regulations. The complaint seeks civil penalties and injunctive relief arising from alleged emissions of volatile organic compounds (VOC) without required permits at the defendants' heated petroleum (asphalt and #6 oil) storage and distribution facilities in Everett and Quincy, Massachusetts; Searsport and South Portland, Maine; Newington (River Road), New Hampshire; and Providence, Rhode Island.

The consent decree requires the defendants to pay civil penalties of $350,000, including $205,000, plus interest, to the United States and $145,000 to the Commonwealth of Massachusetts; and to perform certain measures at the facilities to limit future VOC emissions.

On June 4, 2020, the Department of Justice published a notice in the Federal Register opening a period of public comment on the consent decree for a period of thirty (30) days through July 6, 2020. By this notice, the Department of Justice is extending the public comment period through August 5, 2020. Comments should be addressed to the Assistant Attorney General, Environment and Natural Resources Division, and should refer to United States, et al. v. Sprague Resources LP, et al., D.J. Ref. No. 90-5-2-1-11436. All comments must be submitted no later than August 5, 2020. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. Paper copies of the consent decree are available upon written request and payment of reproduction costs. Such requests and payments should be addressed to:

Consent Decree Library,

U.S. DOJ—ENRD,

P.O. Box 7611,

Washington, DC 20044-7611.

With each such request, please enclose a check or money order for $14.75 (25 cents per page reproduction cost) per paper copy, payable to the United States Treasury.

Henry S. Friedman,
Assistant Section Chief, Environmental Enforcement Section, Environment and Natural Resources Division.

[FR Doc. 2020-14310 Filed 7-1-20; 8:45 am]

BILLING CODE P